DEPARTMENT OF AGRICULTURE

Rural Utilities Service

Broadband Pilot Program—ReConnect Program

AGENCY: Rural Utilities Service, Department of Agriculture.

ACTION: Notice; announcement of opening date for Rural e-Connectivity Pilot Program application windows.

SUMMARY: The Rural Utilities Service (RUS) announced its general policy and application procedures for funding under the eConnectivity Pilot Program (ReConnect Program) in a Funding Opportunity Announcement (FOA) and solicitation of applications on December 14, 2018 in the Federal Register and amended the application window closing dates in a notice published on February 25, 2019 in the Federal Register. The Reconnect Program will provide loans, grants, and loan/grant combinations to facilitate broadband deployment in rural areas. This Notice announces the opening date for the ReConnect Program application windows.

DATES: The Agency will begin accepting applications through https://reconnect.usda.gov for all three ReConnect Program funding categories on April 23, 2019. Please note that each funding category has a different application deadline (as referenced in Section II of Supplementary Information). Please refer to the specific funding category for the appropriate application dates.

ADDRESSES: Application Submission: The application system for electronic submissions is available at https://reconnect.usda.gov.

Electronic submissions: Electronic submissions of applications will allow for the expeditious review of an Applicant's proposal. As a result, all Applicants must file their application electronically.

FOR FURTHER INFORMATION CONTACT: For general inquiries regarding the ReConnect Program, contact Chad Parker, Assistant Administrator Telecommunications Program, Rural Utilities Service, U.S. Department of Agriculture (USDA), email: chad.parker@wdc.usda.gov, telephone (202) 720-9554. You may obtain additional information regarding applications or submit requests for technical assistance at https://www.usda.gov/reconnect/contact-us.

SUPPLEMENTARY INFORMATION:

Authority: This solicitation is issued pursuant to the Consolidated Appropriations Act, 2018, Public Law 115-141, and the Rural Electrification Act of 1936, 7 U.S.C. 901 et seq.

Overview

Federal Agency: Rural Utilities Service, USDA.

Funding Opportunity Title: Rural eConnectivity Pilot Program (ReConnect Program).

Announcement Type: Announcement of Opening Date for Rural e-Connectivity Pilot Program Application Windows (FOA published in the Federal Register on December 14, 2018.)

Catalog of Federal Domestic Assistance (CFDA) Number: Rural eConnectivity Pilot Program (ReConnect Program)—10.752.

I. Background

On March 23, 2018, Congress passed the Consolidated Appropriations Act 2018, which established a broadband loan and grant pilot program, the ReConnect Program. One of the essential goals of the ReConnect Program is to expand broadband service to rural areas without sufficient access to broadband, defined as 10 megabits per second (Mbps) downstream and 1 Mbps upstream. For this purpose, Congress provided RUS with $600 million and expanded its existing authority to make loans and grants.

On December 14, 2018, RUS published a Funding Opportunity Announcement (FOA) and solicitation of applications in the Federal Register at 83 FR 64315. The FOA provided the policy and application procedures for the ReConnect Program. On February 25, 2019, RUS published a notice announcing the application deadlines in the Federal Register at 84 FR 5981. The agency is publishing this notice to provide the date that the application windows will open.

Since the publication of the December 14, 2018 FOA, the 2019 Appropriations Act became law on February 15, 2019. The 2019 Appropriations Act requires that the Agency shall, in determining whether an entity may overbuild, or duplicate broadband expansion efforts made by any entity that has received a broadband loan from RUS, not consider loans that were rescinded or defaulted on, or whose loan terms and conditions were not met, if the new entity under consideration has not previously defaulted on, or failed to meet the terms and conditions of, an RUS loan or had an RUS loan rescinded. To address these issues, the actions taken in the Notice published in the Federal Register (84 FR 14911) on April 12, 2019: (1) Revises the definition of Broadband loan in the FOA, as published in the Federal Register on December 14, 2018, as required by the 2019 Appropriations Act; (2) describes any changes to the data used in the protected broadband service areas mapping layer and, (3) announces the criteria by which applicants may challenge the determination of service area eligibility. These actions were taken by the Agency to ensure that all eligible service areas receive fair consideration for funding under the ReConnect Program.

Telecommunications companies, rural electric cooperatives and utilities, internet service providers and municipalities may apply for funding through the ReConnect Program to connect rural areas that do not have sufficient broadband service. Funds will be awarded to projects that have financially sustainable business models that will bring high-speed broadband to rural homes, businesses, farms, ranches and community facilities, such as first responders, health care sites, and schools. The ReConnect Program enables USDA to create and implement innovative solutions to rural connectivity by providing various financial options to our partners and customers.

II. Funding Categories and Application Submission Dates

A. Funding Categories

1. 100 Percent Loan

Applications will be accepted on a rolling basis from April 23, 2019 through July 12, 2019. If two loan applications are received for the same proposed funded service area, the application that arrives first will be considered first.

2. 50 Percent Loan/50 Percent Grant Combination

Applications will be accepted from April 23, 2019 through June 21, 2019. Notwithstanding overlapping applications, generally all eligible applications will be scored and the applications with the highest score will receive an award offer until all funds are expended for this category. Scoring criteria was established in the Federal Register FOA on December 14, 2018 and can also be found on the website https://reconnect.usda.gov.

3. 100 Percent Grant

Applications will be accepted from April 23, 2019 through May 31, 2019. Notwithstanding overlapping applications, generally all eligible applications will be scored and the applications with the highest score will receive an award offer until all funds are expended for this category. Scoring criteria was established in the FOA, published in Federal Register on December 14, 2018, and can also be found on the website https://reconnect.usda.gov.

B. Available Funds

USDA is making available up to $200 million in in program level for grants, $200 million in program level for loan and grant combinations, and $200 million in program level for low-interest loans. RUS retains the discretion to divert funds from one funding category to another.

III. Program Requirements

To be eligible for an award, applications must meet all the requirements contained in the FOA published in the Federal Register on December 14, 2018 at 83 FR 64315. Information can also be found at https://reconnect.usda.gov.

Chad Rupe,
Acting Administrator, Rural Utilities Service.

[FR Doc. 2019-08176 Filed 4-22-19; 8:45 am]

BILLING CODE 3410-15-P